DEPARTMENT OF THE TREASURY

Submission for OMB Review; Comment Request

July 1, 2013.

The Department of the Treasury will submit the following information collection requests as revisions to currently approved collections to the Office of Management and Budget (OMB) for review and clearance in accordance with the Paperwork Reduction Act of 1995, Public Law 104-13, on or after the date of publication of this notice.

DATES: Comments should be received on or before August 5, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Office of International Affairs

(1) OMB Number: 1505-0016.

Title: Report of Customers' U.S. Dollar Claims on Foreign Residents.

Form: TIC Form BQ-1.

Estimated Annual Burden Hours: 1,214.

(2) OMB Number: 1505-0017.

Title: Report of U.S. Dollar Claims of Financial Institutions on Foreign Residents.

Form: TIC Form BC.

Estimated Annual Burden Hours: 47,847.

(3) OMB Number: 1505-0018.

Title: Report of Customers' U.S. Dollar Liabilities to Foreign Residents.

Form: TIC Form BL-2.

Estimated Annual Burden Hours: 8,456.

(4) OMB Number: 1505-0019.

Title: Report of U.S. Dollar Liabilities of Financial Institutions to Foreign Residents.

Form: TIC Form BL-1.

Estimated Annual Burden Hours: 34,042.

(5) OMB Number: 1505-0020.

Title: Form BQ-2: Part 1—Report of Foreign Currency Liabilities and Claims of Financial Institutions and of Their Domestic Customers' Foreign Currency Claims with Foreign Residents; Part 2—Report of Customers' Foreign Currency Liabilities to Foreign Residents.

Form: TIC Form BQ-2.

Estimated Annual Burden Hours: 5,437.

(6) OMB Number: 1505-0189.

Title: Report of Maturities of Selected Liabilities and Claims of Financial Institutions with Foreign Residents.

Form: TIC Form BQ-3.

Estimated Annual Burden Hours: 4,914.

Abstract: Forms BC, BL-1, BL-2, BQ-1, BQ-2, and BQ-3 are part of the Treasury International Capital (TIC) reporting system, which is required by law (22 U.S.C. 286f; 22 U.S.C. 3103; E.O. 10033; 31 CFR part 128) and are designed to collect timely information on international portfolio capital movements. These forms are filed by all U.S.-resident banks, other depository institutions, brokers and dealers, and Bank Holding Companies/Financial Holding Companies (BHC/FHC). On the monthly forms, these organizations report their own claims on (BC), their own liabilities to (BL-1), and their U.S. customers' liabilities to (BL-2) foreign residents, denominated in U.S. dollars. On the quarterly forms, these organizations report their U.S.-resident customers' U.S. dollar claims on foreign residents (BQ-1), and their own and their domestic customers' claims and liabilities with foreign residents, where all claims and liabilities are denominated in foreign currencies (BQ-2). On the quarterly BQ-3 form, these organizations report the remaining maturities of all their own U.S. dollar and foreign currency liabilities (excluding securities) to foreign residents. This information is necessary for compiling the U.S. balance of payments accounts and the U.S. international investment position, and for use in formulating U.S. international financial and monetary policies.

Affected public: Private Sector: Businesses or other for-profits.

(7) OMB Number: 1505-0024.

Title: Report of Financial Liabilities to, and Financial Claims on, Unaffiliated Foreign-Residents (CQ-1) and Report of Commercial Liabilities to, and Commercial Claims on, Unaffiliated Foreign-Residents (CQ-2).

Form: TIC Forms CQ-1 and CQ-2.

Abstract: Forms CQ-1 and CQ-2 are required by law to collect timely information on international portfolio capital movements, in particular data on financial and commercial liabilities to, and claims on, unaffiliated foreign residents held by non-financial enterprises in the U.S. This information is necessary in the computation of the U.S. balance of payments accounts and the U.S. international investment position, and in the formulation of U.S. international financial and monetary policies.

Affected Public: Private Sector: Businesses or other for-profits.

Estimated Annual Burden Hours: 4,904.

Dawn D. Wolfgang,
Treasury PRA Clearance Officer.

[FR Doc. 2013-16150 Filed 7-3-13; 8:45 am]

BILLING CODE 4810-25-P